DEPARTMENT OF COMMERCE

International Trade Administration

[A-570-831]

Fresh Garlic From the People's Republic of China: Notice of Extension of Time Limit for the Final Results of Antidumping Duty Administrative Review

AGENCY: Import Administration, International Trade Administration, Department of Commerce.

ACTION: Notice of extension of time limit for the final results of antidumping duty administrative review.

SUMMARY: The Department of Commerce is extending the time limit for the final results of the administrative review of the antidumping duty order on fresh garlic from the People's Republic of China until no later than January 21, 2003. The period of review is November 1, 2000, through October 31, 2001. This extension is made pursuant to section 751(a)(3)(A) of the Tariff Act of 1930, as amended.

EFFECTIVE DATE: December 13, 2002.

FOR FURTHER INFORMATION CONTACT: Edythe Artman, AD/CVD Enforcement 3, Import Administration, International Trade Administration, U.S. Department of Commerce, 14th Street and Constitution Avenue, N.W., Washington, D.C. 20230; telephone: (202) 482-3931.

SUPPLEMENTARY INFORMATION:

Background

On August 9, 2002, the Department of Commerce (the Department) published the preliminary results of the administrative review of the antidumping duty order on fresh garlic from the People's Republic of China. See Fresh Garlic from the People's Republic of China: Preliminary Results of Antidumping Duty Administrative Review, Partial Rescission of Administrative Review, and Intent to Rescind Administrative Review in Part, 67 FR 51822 (August 9, 2002) (Preliminary Results). We invited parties to comment on our Preliminary Results. We received comments from the petitioner and three of the respondents, Clipper Manufacturing Ltd., Taian Fook Huat Tong Kee Foods Co., Ltd., and Golden Light Trading Co., Ltd. The final results for this review are currently due on December 9, 2002.

Extension of Time Limit for Final Results of Administrative Review

Section 751(a)(3)(A) of the Tariff Act of 1930, as amended (the Act), provides that the Department will issue the final results of an administrative review within 120 days after the date on which the preliminary results were published. It further provides that, if it is not practicable to complete the review within the 120-day period, the Department may extend the period by 60 days.

The Department has determined that it is not practicable to complete the administrative review within the 120-day period because the comments received from the parties with regard to the preliminary results present a number of complex factual and legal questions about the assignment of antidumping duty margins and, in particular, the application of facts available. Therefore, in accordance with section 751(a)(3)(A) of the Act and 19 CFR 351.213(h)(2) (2002), the Department is extending the time limit for completion of the final results by 43 days. The final results of review will be due no later than January 21, 2003.

Dated: December 9, 2002.
Susan Kuhbach,
Acting Deputy Assistant Secretary for AD/CVD Enforcement I.

[FR Doc. 02-31478 Filed 12-12-02; 8:45 am]

BILLING CODE 3510-DS-S